DEPARTMENT OF TRANSPORTATION

National Highway Traffic Safety Administration

Announcing the Twenty-Second Public Meeting of the Crash Injury Research and Engineering Network (CIREN)

AGENCY: National Highway Traffic Safety Administration (NHTSA), DOT.

ACTION: Meeting announcement.

SUMMARY: This notice announces the Twenty-second Public Meeting of members of the Crash Injury Research and Engineering Network. CIREN is a collaborative effort to conduct research on crashes injury causation at six Level I Trauma Centers across the United States. The CIREN process combines prospective data collection with professional multidisciplinary analysis of medical and engineering evidence to determine injury causation in every crash investigation conducted. Researchers can review data and share expertise, which may lead to a better understanding of crash injury mechanisms and the design of safer vehicles.

The six centers will give presentations on current research based on CIREN data and experience. Topics include: Research on upper extremity injury from partial ejection, knee air bag deployment and lower leg interaction, injury cost analysis for motor vehicle multi-trauma, analysis of fatal outcome and multi-trauma, research on seat interaction and lower spine injury, and design of a computed tomography-based bone mineral density evaluation methodology. The final agenda will be posted to the CIREN Web site at http://www.nhtsa.gov/ciren. The agenda will be posted one week prior to the meeting.

Dates and Time: The meeting is scheduled from 9:00 a.m.to 3:30 p.m. on Wednesday, September 3, 2014.

ADDRESSES: The meeting will be held at: Omni Charlottesville Hotel, 212 Ridge McIntire Road, Charlottesville, VA 22903.

To Register for this Event: This event is open to the public, though it is important that attendees pre-register to ensure the organizers have an accurate head-count for planning purposes. Please send your name, affiliation, phone number, and email address to Rodney.Rudd@dot.gov by Wednesday, August 27, 2014, in order to have your name added to the pre-registration list.

FOR FURTHER INFORMATION CONTACT: Rodney Rudd (202) 366-5932 or Mark Scarboro (202) 366-5078.

SUPPLEMENTARY INFORMATION: The current CIREN model utilizes two types of centers, medical and engineering. Medical centers are based at Level I Trauma Centers that treat large numbers of people injured in motor vehicle crashes. These teams are led by trauma surgeons and emergency physicians and also include a crash investigator and project coordinator. Engineering centers are based at academic engineering laboratories that have experience in motor vehicle crash and human injury research. Engineering teams partner with trauma centers to enroll crash victims into the CIREN program. Engineering teams are led by mechanical engineers, typically trained in the area of impact biomechanics. Engineering teams also include trauma/emergency physicians, a crash investigator, and a project coordinator. Either type of team typically includes additional physicians and/or engineers, epidemiologists, nurses, and other researchers.

NHTSA has held CIREN public meetings on a regular basis since 2000, including quarterly meetings and annual conferences. This is the twenty-second such meeting. Presentations from these meetings are available through the NHTSA/CIREN Web site at the address provided above. NHTSA plans to continue holding CIREN meetings on a regular basis to disseminate CIREN information to interested parties. Individual CIREN cases collected since 1998 may be viewed from the NHTSA/CIREN Web site at the address provided above. Should it be necessary to cancel the meeting due to inclement weather or to any other emergencies, a decision to cancel will be made as soon as possible and posted immediately on CIREN's Web site as indicated above. If you do not have access to the Web site, you may call or email the contacts listed in this announcement and leave your telephone number or email address. You will be contacted only if the meeting is postponed or canceled.

Issued on: August 15, 2014.
Nathaniel Beuse,
Associate Administrator for Vehicle Safety Research.

[FR Doc. 2014-19833 Filed 8-20-14; 8:45 am]

BILLING CODE 4910-59-P